DEPARTMENT OF THE INTERIOR

Bureau of Land Management

[WY-100-08-1310-NB]

Call for Public-at-Large Nominations to the Pinedale Anticline Working Group

AGENCY: Bureau of Land Management, Interior.

ACTION: Call for nominations to fill one vacant public-at-large seat on the Pinedale Anticline Working Group (PAWG) as part of the adaptive management program for the Pinedale Anticline Project Area in Southwestern Wyoming.

DATES: All nominations should be postmarked by 30 days from date of publication in the Federal Register. Final appointments will be made by the Secretary of the Interior.

ADDRESSES: Nominations should be sent to Mr. David Crowley, PAWG Designated Federal Officer, Bureau of Land Management, Pinedale Field Office, 1625 West Pine Street, P.O. Box 768, Pinedale, Wyoming 82941, or via e-mail to dave_crowley@blm.gov.

SUMMARY: There is currently one vacancy on the PAWG for which nominations are being solicited: A representative of the public-at-large. Individuals or groups who wish to submit a nomination or who are interested in becoming a member of the PAWG must submit the required information within 30 days of this Notice. Requisite nomination information is listed below, or nomination forms may be found at: http://www.blm.gov/wy/st/en/field_offices/Pinedale/pawg.html.

FOR FURTHER INFORMATION CONTACT: Mr. David Crowley, PAWG Designated Federal Officer, Bureau of Land Management, Pinedale Field Office, 1625 West Pine Street, P.O. Box 768, Pinedale, Wyoming 82941, telephone: (307) 367-5323, e-mail: dave_crowley@blm.gov.

SUPPLEMENTARY INFORMATION: The Pinedale Anticline Working Group (PAWG) is a Federal Advisory Committee that advises the BLM on the development and implementation of monitoring plans and adaptive management decisions as development of the Pinedale Anticline Natural Gas Field proceeds. PAWG members are expected to attend the scheduled PAWG meetings and provide input to the Bureau of Land Management on the development of adaptive management recommendations related to the Pinedale Anticline Oil and Gas Exploration and Development Project. Members shall be reimbursed for travel and per diem expenses related to the PAWG. Additional information, including meeting minutes and agendas, previous adaptive management recommendations, current membership details, and nomination forms, can be found at: http://www.blm.gov/wy/st/en/field_offices/Pinedale/pawg.html.

On June 25, 2008, the Secretary of the Interior renewed the PAWG Charter. The charter established several membership selection criteria and operational procedures that were developed when the Working Group became active. These are listed as follows:

1. The PAWG is composed of nine members who reside in the State of Wyoming. The PAWG members will be appointed by and serve at the pleasure of the Secretary of the Interior.

2. All members should have a demonstrated ability to analyze and interpret data and information, evaluate proposals, identify problems, and promote the use of collaborative management techniques (such as long-term planning, management across jurisdictional boundaries, data sharing, information exchange, and partnerships), and a knowledge of issues involving oil and gas development activities.

3. The service of the PAWG members shall be as follows:

a. PAWG members will be appointed to 2-year terms, subject to removal by the Secretary of the Interior. At the discretion of the Secretary of the Interior, members may be reappointed to additional terms.

b. The Chairperson of the PAWG will be selected by the PAWG.

c. The term of the Chairperson will not exceed 2 years.

Individuals, or representatives of groups, who wish to become a member of the Pinedale Anticline Working Group should complete and submit the following information to this office within 30 days after publication in the Federal Register:

1. Representative Group To Be Considered for: Public-at-Large.

2. Nominee's Full Name.

3. Business Address.

4. Business Phone.

5. Home Address.

6. Home Phone.

7. Occupation/Title.

8. Qualifications (education, including colleges, degrees, major fields of study and/or training).

9. Career Highlights (significant related experience, civic and professional activities, elected offices, prior advisory committee experience, or career achievements related to the interest to be represented).

10. Experience in collaborative management techniques, such as long-term planning, management across jurisdictional boundaries, data sharing, information exchange, and partnerships.

11. Experience in data analysis and interpretation, problem identification, and evaluation of proposals.

12. Knowledge of issues involving oil and gas development.

13. List any leases, licenses, permits, contracts, or claims held by the Nominee that involve lands or resources administered by the BLM.

14. Attach two or three Letters of Reference from interests or organization to be represented.

15. Nominated by: Include Nominator's name, address, and telephone numbers (if not self-nominated).

16. Date of Nomination.

Groups should nominate more than one person and indicate their preferred order of appointment selection.

Before including your address, phone number, e-mail address, or other personal identifying information in your comment, you should be aware that your entire comment or nomination—including your personal identifying information—may be made publicly available at any time. While you can ask us in your nomination or comment to withhold your personal identifying information from public review, we cannot guarantee that we will be able to do so.

Dated: February 19, 2009.
Donald A. Simpson,
State Director.

[FR Doc. E9-4377 Filed 3-2-09; 8:45 am]

BILLING CODE 4310-22-P